DEPARTMENT OF HEALTH AND HUMAN SERVICES

Centers for Disease Control and Prevention

Meeting of Board of Scientific Counselors BSC National Center for Injury Prevention

AGENCY: Centers for Disease Control and Prevention (CDC), Department of Health and Human Services (HHS).

ACTION: Notice of meeting.

SUMMARY: In accordance with the Federal Advisory Committee Act, the Centers for Disease Control and Prevention (CDC) announces the following meeting of the aforementioned committee. This meeting is open to the public. The public is also welcome to listen to the meeting by joining the teleconference at the USA toll-free, dial-in number, 1-877-492-3517 and the passcode is 2576415. The phone line has 75 ports available for teleconference participants. The meeting room will only accommodate 50 people. There will be 15 minutes allotted on Wednesday, September 27, 2017 from 11:30 a.m.-11:45 a.m. for public comments. The public is welcome to submit written comment in advance of the meeting, to the contact person listed below. Written comments received in advance of the meeting will be included in the official record of the meeting.

DATES: The meeting will be held on September 26, 2017, 9:00 a.m. to 4:40 p.m., EDT, and September 27, 2017, 9:30 a.m.-12:00 p.m., EDT.

ADDRESSES: Crown Plaza Atlanta Perimeter at Ravinia, 4355 Ashford Dunwoody Road NE., Atlanta, 30346 and via Teleconference: Dial-In Number: 1-877-492-3517, Participant Code: 2576415.

FOR FURTHER INFORMATION CONTACT: Gwendolyn H. Cattledge, Ph.D., M.S.E.H., Deputy Associate Director for Science, NCIPC, CDC, 4770 Buford Highway NE., Mailstop F-63, Atlanta, GA 30341, Telephone (770) 488-1430. Email address: GCattledge@cdc.gov.

SUPPLEMENTARY INFORMATION:

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury.

The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters To Be Considered: The Board of Scientific Counselors Agenda for the two-day meeting will be: September 26, 2017—Will discuss science matters to include research strategies needed to guide the Center's focus, as well as updates on the NCIPC extramural research program, the National Intimate and Sexual Violence Workgroup, and the Pediatric Mild-Traumatic Injury Workgroup. September 27, 2017—Will discuss science matters to include the Essentials for Childhood Workgroup Portfolio Review, the Suicide Strategic Plan, and Opioid Overdose CDC Coordination/Strategic Directions. Agenda items are subject to change as priorities dictate.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-17129 Filed 8-11-17; 8:45 am]

BILLING CODE 4163-18-P